DEPARTMENT OF HOUSING AND URBAN DEVELOPMENT

[Docket No. FR-5681-N-24]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: INTERIOR: Mr. Michael Wright, Acquisition & Property Management, Department of the Interior, 1801 Pennsylvania Ave. NW., 4th Floor, Washington, DC 20006: (202) 254-5522; (This is not a toll-free number).

Dated: June 6, 2013.
Mark Johnston,
Deputy Assistant Secretary for Special Needs.

TITLE V, FEDERAL SURPLUS PROPERTY PROGRAM FEDERAL REGISTER REPORT FOR 06/14/2013

Suitable/Available Properties

Building

Maryland

Tract #07-118; Cunningham Farm

18440 Shepherdstown Pike

Sharpsburg MD 21782

Landholding Agency: Interior

Property Number: 61201320023

Status: Excess

Comments: off-site removal only; removal may be difficult; unsound structure; deteriorating; 1,190-1,535 sf.; wagon shed; 10 yrs. vacant

Virginia

Tract 03-183 Dent House

9325 Pland Road

Spotsylvania VA 22553

Landholding Agency: Interior

Property Number: 61201320002

Status: Excess

Comments: off-site removal only; maybe difficult to relocated; 775 sf; residential; 2 yrs.: Vacant; structurally sound however, asbestos & lead; contact interior for more info.

Tract 04-128

Carber Property

Spotsylvania VA 22960

Landholding Agency: Interior

Property Number: 61201320003

Status: Excess

Directions: House, tenant farmer house, greenhouse/storage shed, feed bath, storage shed, tenant shed, well house, small barn

Comments: off-site removal only; maybe difficult to relocate; sf. varies; conditions range from poor to dilapidated; vacant btw. 8-10 yrs.; contact interior for more info.

03-181; Dulin House

9401 Plank Road

Spotsvania VA 22553

Landholding Agency: Interior

Property Number: 61201320004

Status: Excess

Comments: off-site removal only; maybe difficult to relocate; 1,536 sf; residential, 5 yrs. vacant; structurally sound however several large holes in interior & no piping; contact interior for more into.

Tract 02-103 Richardson House

700 Sunken Road

Fredericksburg VA 22401

Landholding Agency: Interior

Property Number: 61201320005

Status: Excess

Comments: off-site removal only; maybe difficult to relocate; 2,324 sf; residence 16 yrs. vacant; structurally sound; however several roof leaks, ceiling damaged/lead base paint; contact interior for more info.

[FR Doc. 2013-13822 Filed 6-13-13; 8:45 am]

BILLING CODE 4210-67-P